DEPARTMENT OF JUSTICE

Notice of Lodging of Consent Decree Under The Clean Air Act

Notice is hereby given that on November 3, 2010, a proposed Consent Decree (the “Decree”) in United States v. Commonwealth of Pennsylvania, Civil Action No. 2:10-cv-01469-JFC, was lodged with the United States District Court for the Western District of Pennsylvania.

In a complaint, filed simultaneously with the Decree, the United States alleges that the Slippery Rock University and the Commonwealth of Pennsylvania violated the Clean Air Act, 42 U.S.C. 7401 et seq., and 25 Pa. Code §§ 123.11, 123.41 and 123.444, regulations included in the Pennsylvania State Implementation Plan, by causing excess particulate emissions from boilers on the university campus.

Pursuant to the Decree, Slippery Rock University and the Commonwealth will install pollution control technology to reduce particulate emissions, will comply with the regulatory emissions limits for particulate matter, will store its coal in a coal storage building to protect coal from degradation, and will perform periodic testing to ensure that the facility is complying with the emissions limits. Slippery Rock and the Commonwealth will also pay a $50,000 civil penalty to the United States pursuant to the Decree.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Commonwealth of Pennsylvania, D.J. Ref. 90-5-2-1-07931.

During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-28311 Filed 11-9-10; 8:45 am]

BILLING CODE 4410-15-P